DEPARTMENT OF COMMERCE

International Trade Administration

(A-580-810)

Welded ASTM A-312 Stainless Steel Pipe from South Korea: Extension of Time Limit for Preliminary Results of Antidumping Duty Administrative Review

AGENCY: Import Administration, International Trade Administration, Department of Commerce.

EFFECTIVE DATE: August 19, 2008.

FOR FURTHER INFORMATION CONTACT: Jacqueline Arrowsmith or Gene Calvert, AD/CVD Operations, Office 6, Import Administration, International Trade Administration, Department of Commerce, 14th Street and Constitution Avenue, N.W., Washington, D.C. 20230.; telephone: (202) 482-5255 OR (202) 482-3586, respectively.

SUPPLEMENTARY INFORMATION:

Background

On January 28, 2008, the Department of Commerce (the Department) published the notice of initiation of the administrative review of the antidumping duty order on ASTM A-312 stainless steel pipe from South Korea. See Initiation of Antidumping and Countervailing Duty Administrative Reviews See 73 FR 4829 (January 28, 2008). The period of review is December 1, 2006 through November 30, 2007. The preliminary results of this administrative review are currently due no later than September 1, 2008.

Extension of Time Limit for Preliminary Results

Section 751(a)(3)(A) of the Tariff Act of 1930, as amended (the Act), and section 351.213(h)(1) of the Department's regulations require the Department to issue the preliminary results of a review within 245 days after the last day of the anniversary month of the order or suspension agreement for which the administrative review was requested, and final results of the review within 120 days after the date on the which the notice of the preliminary results is published in the Federal Register. However, if the Department determines that it is not practicable to complete the review within the aforementioned specified time limits, section 751(a) (3)(A) of the Act and section 351.213(h)(2) of the Department's regulations allow the Department to extend the 245-day period to 365 days and to extend the 120-day period to 180 days.

The Department needs additional information regarding SeAH's cost of production and additional time to analyze this information. Therefore, the Department finds that it is not practicable to complete the preliminary results of the review within the original time limit and is extending the deadline for the completion of the preliminary results of the antidumping duty order on welded ASTM A-312 stainless steel pipe from South Korea by 107 days from September 1, 2008 to December 17, 2008.

This notice is issued and published pursuant to sections 751(a)(3)(A) and 777(i)(1) of the Act.

Dated: August 13, 2008.
Stephen J. Claeys,
Deputy Assistant Secretary for Import Administration.

[FR Doc. E8-19173 Filed 8-18-08; 8:45 am]

BILLING CODE 3510-DS-S